INTER-AMERICAN FOUNDATION BOARD MEETING

Sunshine Act Meetings

TIME AND DATE: June 25, 2012; 9:00 a.m.-1:15 p.m.

PLACE: 1331 Pennsylvania Ave. NW., 12th floor north, Suite 1200, Washington, DC 20004.

STATUS: Open to the public.

MATTERS TO BE CONSIDERED:

Approval of the Minutes of the March 26, 2012, Meeting of the Board of Directors

Appointment of Board Secretary

Appointment of Advisory Council Vice-Chair

Management Report

Strategic Planning Exercise

Initial Fundraising Plan

Web site Demo

Next Meetings

PORTIONS TO BE OPEN TO THE PUBLIC:

Approval of the Minutes of the March 26, 2012, Meeting of the Board of Directors

Appointment of Board Secretary

Appointment of Advisory Council Vice-Chair

Management Report

Strategic Planning Exercise

Initial Fundraising Plan

Web site Demo

Next Meetings

CONTACT PERSON FOR MORE INFORMATION: Paul Zimmerman, General Counsel, (202) 683-7118.

Dated: June 8, 2012.
Paul Zimmerman,
General Counsel.

[FR Doc. 2012-14467 Filed 6-8-12; 4:15 pm]

BILLING CODE 7025-01-P